DEPARTMENT OF HEALTH AND HUMAN SERVICES

Centers for Disease Control and Prevention

The National Institute for Occupational Safety and Health; Notice of Meeting

The National Institute for Occupational Safety and Health (NIOSH) of the Centers for Disease Control and Prevention (CDC) Announces the Following Meeting.

Name: Review and Discussion of Draft Document: Criteria for a Recommended Standard—Occupational Exposure to Refractory Ceramic Fibers.

Time and Date: 9 a.m.-4 p.m., August 19, 2003.

Place: Robert A. Taft Laboratories, Taft Auditorium, NIOSH, CDC, 4676 Columbia Parkway, Cincinnati, Ohio 45226.

Status: Forum will include scientists and representatives from various government agencies, industry, labor, and other stakeholders, and is open to the public, limited only by the space available. The meeting room accommodates 50 people. Due to limited space, notification of intent to attend the meeting must be made with Karen Dragon no later than Tuesday, August 5, 2003. Ms. Dragon can be reached by telephone at 513/533-8303 or by email at ked2@cdc.gov. Requests to attend the meeting will be accommodated on a first-come basis.

Purpose: To discuss current research with refractory ceramic fibers (RCFs) and specific issues related to the scientific and technical information presented in the criteria document. Special emphasis will be placed on discussion of the following:

(1) What we can learn from animal studies with RCFs and associated health effects or other biological endpoints;

(2) What we can learn from epidemiological studies with RCFs and associated health effects or other biological endpoints;

(3) Strategies to control occupational exposure to RCFs (e.g., engineering controls, work practices, recommended exposure limit, action limit, personal protective equipment, and specific industries or job functions where controlling exposures is more challenging);

(4) Areas for future collaborative efforts (e.g., research, communication, outreach, and information dissemination, development and dissemination of additional engineering control technologies).

The public is invited to attend and will have the opportunity to provide comments.

Contact Person for General Information: Karen Dragon, Education and Information Division, NIOSH, CDC, 4676 Columbia Parkway, MS C-34, Cincinnati, Ohio 45226, telephone 513/533-8303, fax 513/533-8285, e-mail ked2@cdc.gov.

Contact Person for Technical Information: Thomas Lentz, Education and Information Division, NIOSH, CDC, 4676 Columbia Parkway, MS C-32, Cincinnati, Ohio 45226, telephone 513/533-8260, fax 513/533-8230, e-mail tbl7@cdc.gov.

Written research, data, or supporting materials to be considered, distributed, or discussed during the meeting should be submitted to the NIOSH Docket Office, ATTN: Diane Miller, Robert A. Taft Laboratories, M/S C-32, 4676 Columbia Parkway, Cincinnati, Ohio 45226, telephone 513/533-8450, fax 513/533-8230. Comments may also be submitted by e-mail to: NIOCINDOCKET@CDC.GOV. E-mail attachments should be formatted as WordPerfect 6/7/8/9, or Microsoft Word. Comments should be submitted to NIOSH no later than August 5, 2003, and should reference docket number NIOSH-009 in the subject heading.

The Director, Management Analysis and Services Office, has been delegated the authority to sign Federal Register notices pertaining to announcements of meetings and other committee management activities, for both CDC and the Agency for Toxic Substances and Disease Registry.

Dated: June 23, 2003.
John Burckhardt,
Acting Director, Management Analysis and Services Office, Centers for Disease Control and Prevention.

[FR Doc. 03-16284 Filed 6-26-03; 8:45 am]

BILLING CODE 4163-19-P